DEPARTMENT OF THE INTERIOR

Bureau of Land Management

[WY-030-1310-DB]

Notice of Availability of a Draft Environmental Impact Statement for the Seminoe Road Gas Development Project

AGENCY: Bureau of Land Management, Interior.

ACTION: Notice of availability.

SUMMARY: The Bureau of Land Management (BLM) announces the availability of the Seminoe Road Gas Development Project DEIS that analyzes the environmental consequences of a proposed coalbed natural gas development and production operation in south central Wyoming.

DATES: The DEIS will be available for review and comment for 60 calendar days from the date the Environmental Protection Agency (EPA) publishes its NOA in the Federal Register. The BLM can best use comments and resource information if they are submitted by or before close of business the day of the end of the comment and review period. If you are uncertain as to what constitutes acceptable comment format or when comments are due, please contact the Project Leader or the Rawlins Field Office at the address below.

ADDRESSES: A copy of the DEIS was sent to affected Federal, State, and local government agencies and to interested parties. The document may also be available electronically on the following Web site: http://www.wy.blm.gov/nepa/nepadocs.htm. Copies of the DEIS will be available for public inspection at the following locations:

• Bureau of Land Management, Wyoming State Office, 5353 Yellowstone Road, Cheyenne, Wyoming 82003.

• Bureau of Land Management, Rawlins Field Office, 1300 N. Third Street, Rawlins, Wyoming 82301.

FOR FURTHER INFORMATION CONTACT: David Simons, Project Leader, BLM Rawlins Field Office, 1300 N. Third Street, Rawlins, WY 82301. Requests for information may be sent electronically to: rawlins_wymail@blm.gov with “Attention: Seminoe Road DEIS Information Request” in the subject line. Mr. Simons may also be reached at (307) 328-4328.

SUPPLEMENTARY INFORMATION: Dudley & Associates, LLC (the Operators) propose to explore and develop natural gas resources from coal beds within their existing leases within the Seminoe Road Project Area. The project is located approximately 20 miles northeast of Rawlins, Wyoming near Seminoe Reservoir, Townships 21-24 North, Ranges 84-86 West, Sixth Principal Meridian, Carbon County.

The Operators will drill up to 1,240 wells on up to 785 well pad sites over the next 30 to 40 years. Depending on geologic conditions, well density would range from two wells per 640 acres to four wells per 640 acres.

Forty-nine percent of the approximately 137,000 surface acre area is public land administered primarily by the BLM. Of the remaining project area surface, 49 percent is privately owned and less than 2 percent is owned and administered by the State of Wyoming. The Federal mineral estate ownership pattern is the same as the surface ownership pattern. Currently, approximately 18 gas wells operate within the Seminoe Road Project Area from a pilot project drilled in 2001. The Operators propose to drill up to 1,240 additional wells over the next 30 to 40 years.

The BLM published its Notice of Intent to prepare an Environmental Impact Statement (EIS) for the Seminoe Road Gas Development Project in the Federal Register on March 13, 2003. Based upon issues and concerns identified during scoping and during the development of National Environmental Policy Act (NEPA) analysis, the Seminoe Road DEIS focuses on individual and cumulative impacts to air quality, biological and physical resources, transportation, and socio-economics factors. In compliance with section 7(c) of the Endangered Species Act, as amended, the DEIS includes a biological assessment that identifies endangered or threatened species which may be affected by the Proposed Action.

This DEIS assesses the effects of implementing the proposed action at the scale presented by the project proponent. Subsequent site-specific development proposals would be submitted to the BLM in the form of Applications to Drill (APD). A NEPA analysis of the, APDs would be conducted and analyzed to address site specific effects using best management practices. These site-specific environmental analyses would be tiered to this EIS.

The Seminoe Road DEIS analyzes four alternatives in detail:

1. Alternative A, the No Action alternative. This means the project as proposed would not be approved;

2. Alternative B, the proposed action, with produced water from coalbed natural gas drilling and production discharged into ephemeral stream courses;

3. Alternative C, the proposed action, modified to provide for produced water discharge in the North Platte River system using pipelines, aqueducts, or other water transportation features; and

4. Alternative D, the proposed action, with produced water re-injected into underground aquifers.

Agency Preferred Alternative: BLM's preferred alternative is Alternative C.

The proposed action is to proceed with field development through establishing 785 well pad sites, drilling up to 1,240 natural gas wells, developing access roads and siting pipelines and other ancillary facilities (gas processing plant, compressor stations, water disposal sites, etc.). The proposed action identifies the drilling of multiple wells from a single pad and well completion in multiple coal formations. Produced water would be released into surface drainages running into the North Platte River.

How To Submit Comments

Comments must be submitted using one of the following methods:

1. Comments may be electronically mailed to rawlins_wymail@blm.gov with “Attention: Seminoe Road Project Manager” in the subject line, and avoiding the use of special characters or any form of encryption. If you do not receive a confirmation from our system that your comment has been received, please contact David Simons, Project Manager, Rawlins Field Office, (307) 328-4328;

2. Written comments may be mailed directly or delivered to the BLM at: Seminoe Road DEIS, Project Manager, Bureau of Land Management Rawlins Field Office, 1300 N. Third Street, P.O. Box 2407, Rawlins, WY 82301; and

3. Comments may be sent via telefax to the BLM, Attn: David Simons, at (307) 328-4224.

To be given consideration by BLM, all DEIS comments must include the commenter's name and street address.

BLM's practice is to make all comments, including the names and street addresses of each respondent, available for public review at the BLM office listed above during business hours (7:45 a.m. to 4:30 p.m.), Monday through Friday, except for Federal holidays. Your comments may be published as part of the EIS process. Individual respondents may request confidentiality. If you wish to withhold your name or street address or both from public review or from disclosure under the Freedom of Information Act, you must state this prominently at the beginning of your written comments. Such requests will be honored to the extent allowed by law. BLM will not consider anonymous comments. All submissions from organizations or businesses will be made available for public inspection in their entirety.

Dated: November 15, 2005.
Martin G. Griffith,
Acting State Director.

[FR Doc. 05-23064 Filed 11-23-05; 8:45 am]

BILLING CODE 4310-22-P